ENVIRONMENTAL PROTECTION AGENCY

[Docket No. OEI-2005-0001; FRL-7889-4]

Establishment of a New System of Records Notice for the Federal Docket Management System

AGENCY: Environmental Protection Agency (EPA).

ACTION: Notice.

SUMMARY: Pursuant to the provisions of the Privacy Act of 1974 (5 U.S.C. 552a) the EPA, as managing partner of the Federal-wide eRulemaking, eGovernment Initiative, is giving notice that it proposes to establish a government-wide system of records, the Federal Docket Management System (FDMS). The FDMS allows the public to search, view, download, and comment on all Federal agency rulemaking documents in one central online system.

DATES: The proposed notice will be effective without further notice on May 3, 2005.

ADDRESSES: Questions regarding this notice should be referred to Valerie Brecher-Kovacevic at U.S. EPA, Office of Environmental Information, M/C 2282V, 1200 Pennsylvania Ave., NW., Washington, DC 20460, 202-632-0339, or via e-mail brecher-kovacevic.valerie@epa.gov.

FOR FURTHER INFORMATION CONTACT: Patrick Micielli, Micielli.Patrick@epa.gov, 202-632-0350, U.S. EPA, Office of Environmental Information, M/C 2282V, 1200 Pennsylvania Ave., NW., Washington, DC 20460.

SUPPLEMENTARY INFORMATION:

I. General Information

The FDMS serves as a central, electronic repository for all Federal rulemaking dockets, which include Federal Register notices, supporting materials such as scientific or economic analyses, and public comments, as well as non-rulemaking dockets. The FDMS is a system used by all Federal agencies that conduct rulemakings. Each agency is responsible for managing its own docket and rulemaking documents. An agency may share documents with other agencies or persons in addition to making them available to the public on the FDMS Web site. Each agency has sole responsibility for the documents submitted in support of their rulemakings and these documents will be processed by the individual agencies.

On behalf of the Federal partner agencies, EPA is publishing this new system of record notice as the Program Manager (PMO) for the E-Government, eRulemaking Initiative's FDMS, in order to satisfy the applicable requirements of the Privacy Act. There will be instances when a person using FDMS to submit a comment or supporting materials on a Federal rulemaking must provide name and contact information (e-mail or mailing address) as required by an agency, or, a person may have the option to do so, if they would like an agency to contact them regarding a comment (e.g. if the agency experiences a problem receiving the comment or needs additional information). A comment that meets all requirements, as determined by the Federal agency publishing the rulemaking, will be posted on the Internet (FDMS Web site) for public viewing and all the contents of the posted comment will be searchable. The FDMS is a system with full text search capability, which would include any name and contact information submitted in or as part of a comment. Each agency has the opportunity to review the data it receives as part of its rulemakings. An agency may choose to keep certain types of information contained in a comment submission from being posted publicly, while preserving the entire document to be reviewed and considered as part of the rulemaking docket. For example, comments containing material whose disclosure is restricted by Federal statute, such as the Children's Online Privacy Protection Act of 1998 (COPPA), may not be publicly posted, but will be retained and evaluated/considered by the receiving agency. Each agency manages, accesses, and controls the information in the FDMS that is submitted to that particular agency and also maintains the sole ability to disclose the data submitted to that particular agency.

The FDMS contains information that is submitted in support of Federal rulemakings, only a limited portion of which is covered under the Privacy Act. The portion of this system that comes under the Act includes the information received by agencies that require or accept personal identifying information (name and contact address/e-mail address). It will be apparent whether or not an agency requires this information. There will be set fields to be filled out on the comment page and clear notification as to whether the information is required or optional. There will be agencies that do not place these fields on the comment page as they do not require or offer to collect this information. Submit your comments, identified by Docket ID No. OEI-2005-0001, by one of the following methods:

• Federal eRulemaking Portal: http://www.regulations.gov. Follow the on-line instructions for submitting comments.

• Agency Web site: http://www.epa.gov/edocket. EDOCKET is EPA's electronic public docket and comment system. Follow the on-line instructions for submitting comments.

• Mail: OEI Docket, Environmental Protection Agency, Mailcode: 2822T, 1200 Pennsylvania Ave., NW., Washington, DC 20460.

• Hand Delivery: OEI Docket, EPA/ DC, EPA West, Room B102, 1301 Constitution Ave., NW., Washington, DC. Such deliveries are only accepted during the Docket's normal hours of operation (8:30 a.m. to 4:30 p.m., Monday through Friday, excluding legal holidays), and special arrangements should be made for deliveries of boxed information.

Instructions: Direct your comments to Docket ID No. OEI-2005-0001. EPA's policy is that all comments received will be included in the public docket without change and may be made available online at http://www.epa.gov/edocket, including any personal information provided, unless the comment includes information claimed to be Confidential Business Information (CBI) or other information whose disclosure is restricted by statute. Do not submit information that you consider to be CBI or otherwise protected through EDOCKET, regulations.gov, or e-mail. The EPA EDOCKET and the federal regulations.gov websites are “anonymous access” systems, which means EPA will not know your identity or contact information unless you provide it in the body of your comment. If you send an e-mail comment directly to EPA without going through EDOCKET or regulations.gov, your e-mail address will be automatically captured and included as part of the comment that is placed in the public docket and made available on the Internet. If you submit an electronic comment, EPA recommends that you include your name and other contact information in the body of your comment and with any disk or CD--ROM you submit. If EPA cannot read your comment due to technical difficulties and cannot contact you for clarification, EPA may not be able to consider your comment. Electronic files should avoid the use of special characters, any form of encryption, and be free of any defects or viruses.

Docket: All documents in the docket are listed in the EDOCKET index at http://www.epa.gov/edocket. Although listed in the index, some information is not publicly available, i.e., CBI or other information whose disclosure is restricted by statute. Certain other material, such as copyrighted material, is not placed on the Internet and will be publicly available only in hard copy form. Publicly available docket materials are available either electronically in EDOCKET or in hard copy at the Docket, EPA/DC, EPA West, Room B102, 1301 Constitution Ave., NW., Washington, DC. The Public Reading Room is open from 8:30 a.m. to 4:30 p.m., Monday through Friday, excluding legal holidays. The telephone number for the Public Reading Room is (202) 566-1744, and the telephone number for the OEI Docket is (202) 566-1752.

Assistance to Individuals With Disabilities in Reviewing the Comments

On request, the docket center will supply an appropriate aid, such as a reader or print magnifier, to an individual with a disability who needs assistance to review the comments or other documents in the public rulemaking record for this notice. If you want to schedule an appointment for this type of aid, you may call 202-566-1744. If you use a TDD, you may call the Federal Information Relay Service at 1-800-877-8339.

Dated: March 18, 2005.
Kimberly T. Nelson,
Assistant Administrator and Chief Information Officer.

EPA-GOVT-2

System Name:

Federal Docket Management System (FDMS).

Security Classification:

None.

System Location:

U.S. EPA, Research Triangle Park, NC.

Categories of Individuals Covered by the System:

Any person—including public citizens and representatives of Federal, state or local governments, businesses, and industries, that provide personal information while submitting a comment or supporting materials on a Federal agency rulemaking.

Categories of Records in the System:

Agency rulemaking material. This includes but is not limited to: pending Federal Register publications; supporting rulemaking documentation; scientific and financial studies; and public comments received.

Authority for Maintenance of the System:

Section 206(d) of the E-Government Act of 2002 (Pub. L. 107-347, 44 U.S.C. Ch 36).

Purpose(s):

To assist the Federal government in allowing the public to search, view, download, and comment on Federal agency's rulemaking documents in one central location on-line.

Routine uses of Records Maintained in the System Including Categories of Users and the Purposes of Such Uses:

This notice covers the following general uses contained within FDMS: Disclosure for Law Enforcement Purposes; Disclosure Incident to Requesting Information; Disclosure to Requesting Agency; Disclosure to Office of Management and Budget; Disclosure to Congressional Offices; Disclosure to Department of Justice; Disclosure to the National Archives; Disclosure to Contractors, Grantees, and Others; Disclosures for Administrative Claims; Complaints and Appeals, and Disclosure in Connection with Litigation. Agencies must file a separate notice if they release Privacy Act information in a manner that does not fall under one of the above routine uses.

Policies and Practices for Storing, Retrieving, Accessing, Retaining, and Disposing of Records in the System:

Storage:

Records will be maintained in computer databases compliant with DOD 5015.2 electronic records standards.

Retrievability:

The FDMS will have the ability to retrieve records by various data elements and key word searches, among which are by: Name, Agency, Docket Type, Docket Sub-Type, Agency Docket ID, Docket Title, Docket Category, Document Type, CFR Part, Date Comment Received, and Federal Register Published Date.

Safeguards:

FDMS security protocols will meet multiple NIST Security Standards from Authentication to Certification and Accreditation. Records in the FDMS will be maintained in a secure, password protected electronic system that will utilize security hardware and software to include: Multiple firewalls, active intruder detection, and role-based access controls. Additional safeguards will vary by agency.

Retention and Disposal:

Each Federal agency will handle its records in accordance with its records schedule as approved by the National Archives and Records Administration (NARA). Electronic data will be retained and disposed of in accordance with the agency's records schedule pending approval by the NARA. The majority of documents residing on this system will be public comments and other documentation in support of federal rulemakings. All Federal Register publications are part of the FDMS and are identified as permanent records and retained by NARA.

System Manager(s) Address and Contact Information:

Oscar Morales, Collection Strategies Division, Office of Information Collection, Office of Environmental Information, U.S. EPA, M/C 2282V, 1200 Pennsylvania Ave, NW., Washington, DC 20460

Notification Procedure:

Any individual who wants to know whether this system of records contains a record about him or her, who wants access to his or her record, or who wants to contest the contents of a record, should contact the appropriate agency contact as indicated on the Federal Register notice or other document to which the information in question is linked.

Record Access Procedures:

Requesters will be required to provide adequate identification, such as a driver's license, employee identification card, or other identifying document. Additional identification procedures may be required in some instances in accordance with each agency's Privacy Act regulations; and may be specified in an agency's Federal Register notices.

Contesting Records Procedures:

Requests for correction or amendment must identify the record to be changed and the corrective action sought. Requests must be submitted to the agency contact indicated on the initial document for which the related contested record was submitted.

Record Source Categories:

Any person, including public citizens and representatives of Federal, state or local governments; businesses; and industries.

System Exempted From Certain Provisions of the Act:

None.

[FR Doc. 05-5823 Filed 3-23-05; 8:45 am]

BILLING CODE 6560-50-P